DEPARTMENT OF HEALTH AND HUMAN SERVICES

Centers for Disease Control and Prevention

National Institute for Occupational Safety and Health Personal Protective Technology for Pesticide Handlers: Stakeholder Meeting

AGENCY: The National Institute for Occupational Safety and Health (NIOSH) of the Centers for Disease Control and Prevention (CDC), Department of Health and Human Services (HHS).

ACTION: Notice of public meeting.

SUMMARY: The National Institute for Occupational Safety and Health (NIOSH) of the Centers for Disease Control and Prevention (CDC) announces the following public meeting: “Pesticide Handler Personal Protective Technology Stakeholder Meeting”.

Stakeholder Meeting Time and Date:

4 p.m.-6 p.m. EDT, March 25, 2013 [Optional]

8 a.m.-6 p.m. EDT, March 26, 2013.

Place: NIOSH, Patriots Plaza 1, 395 E. Street, SW., Room 9000, Washington, DC 20201. This meeting will also be accessible remotely through Live Meeting with advanced registration.

Purpose of the Meeting: This meeting is being held to motivate and educate pesticide handlers and pesticide workers to use best pesticide personal protective equipment practices. This stakeholder meeting allows NIOSH to facilitate focused communication and exchange ideas and solutions between key stakeholder groups. Stakeholder feedback is sought to provide input to future updates of the NIOSH Personal Protective Technology program research agenda.

Day 1, March 25th, 2013 (4 a.m.-6 p.m.) is optional. This first day includes informal introductions and discussions of partnering opportunities and on-going collaborations.

Day 2, March 26, 2013 (8 a.m.-6 p.m.) will include formal sessions on potential health effects of pesticide exposure, work safety culture, and the use and limitations of storytelling to motivate safer and healthier work practices. Pesticide handlers and pesticide workers will share their personal stories. The afternoon session will include an update from the U.S. Environmental Protection Agency (EPA).

This meeting will also include interactive sessions involving an expert panel in which stakeholders will brainstorm ways to collaboratively promote wide-spread adoption of best practices.

Status: The meeting is open to the public, limited only by the space available. The meeting room accommodates 33 people. This meeting will also be available to participants at 100 locations via Live Meeting. Live Meeting participants can simultaneously listen, speak, and view presentations via a telephone call and Internet connection.

Registration will be accepted on a first come first served basis. Registration to participate in person is available on the NIOSH NPPTL Web site: www.cdc.gov/niosh/npptl.

Registration to participate via Live Meeting is available at: https://www.livemeeting.com/lrs/1100003614/Registration.aspx?pageName=lx5wbfv03vl92kzj. Preregistration is required for both remote and in-person attendees.

An email confirming registration will be sent from NIOSH and will include details needed to participate. A government-issued photo ID will be required to obtain entrance to Patriots Plaza for those who will attend in-person. Non-US citizens must be cleared in advance. This clearance takes a minimum of 30 days.

FOR FURTHER INFORMATION CONTACT: Dr. Kimberly Faulkner, Epidemiologist, NIOSH NPPTL at NPPTLEventsPesticide@cdc.gov, telephone (412) 386-6111, fax (412) 386-6617.

Dated: February 14, 2013.
John Howard,
Director, National Institute for Occupational Safety and Health, Centers for Disease Control and Prevention.

[FR Doc. 2013-03925 Filed 2-20-13; 8:45 am]

BILLING CODE 4163-19-P